DEPARTMENT OF COMMERCE

Foreign-Trade Zones Board

[Docket 47-2001]

Foreign-Trade Zone 50, Long Beach, CA, Proposed Foreign-Trade Subzone, Ultramar Diamond Shamrock Corporation (Oil Refinery Complex), Los Angeles, CA

An application has been submitted to the Foreign-Trade Zones Board (the Board) by the Board of Harbor Commissioners of the City of Long Beach, grantee of FTZ 50, requesting special-purpose subzone status for the oil refinery complex of Ultramar Diamond Shamrock Corporation (Ultramar), located in Los Angeles, California. The application was submitted pursuant to the provisions of the Foreign-Trade Zones Act, as amended (19 U.S.C. 81a-81u), and the regulations of the Board (15 CFR part 400). It was formally filed on November 27, 2001.

The Ultramar refinery complex (120,000 BPD, 54 tanks with 3.1 million barrel capacity on 5.9 million square feet) is located at 2402 East Anaheim Street, Wilmington area of Los Angeles (Los Angeles County), California. The refinery is within the Long Beach port of entry.

The “Wilmington” refinery (435 full-time and 133 contract employees) is used to produce fuels and petrochemical feedstocks. Fuel products include gasoline, jet fuel, distillates, residual fuels, naphthas and motor fuel blendstocks. Petrochemical feedstocks and refinery by-products include propane, butane, petroleum coke and sulfur. Some 35 percent of the crude oil and natural gas condensate (54 percent of inputs) is sourced abroad. The company is also requesting to import certain intermediate inputs (naphthas and gas oils) under FTZ procedures. Currently 35 percent of the refinery's intermediate inputs are foreign-sourced.

Zone procedures would exempt the refinery from Customs duty payments on the foreign products used in its exports. On domestic sales, the company would be able to choose the Customs duty rates that apply to certain petrochemical feedstocks and refinery by-products (duty-free) by admitting incoming foreign inputs (crude oil, natural gas condensate, gas oil, naphtha) in non-privileged foreign status. The duty rates on inputs range from 5.25¢/barrel to 10.5¢/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below.

The closing period for their receipt is [60 days from date of publication]. Rebuttal comments in response to material submitted during the foregoing period may be submitted during the subsequent 15-day period (to February 19, 2002).

A copy of the application and accompanying exhibits will be available for public inspection at each of the following locations:

U.S. Department of Commerce, Export Assistance Center, One World Trade Center, Suite 1670, Long Beach, CA 90831.

Office of the Executive Secretary, Foreign-Trade Zones Board, Room 4008, U.S. Department of Commerce, 14th & Pennsylvania Avenue, NW., Washington, DC 20230.

Dated: November 29, 2001.
Dennis Puccinelli,
Executive Secretary.

[FR Doc. 01-30289 Filed 12-5-01; 8:45 am]

BILLING CODE 3510-DS-P